DEPARTMENT OF AGRICULTURE

Food and Nutrition Service

Agency Information Collection Activities: Proposed Collection; Comment Request—Assessment of States' Use of Computer Matching Protocols in SNAP

AGENCY: Food and Nutrition Service, U.S. Department of Agriculture.

ACTION: Notice.

SUMMARY: In accordance with the Paperwork Reduction Act of 1995, this notice invites the general public and other public agencies to comment on this NEW information collection request. This study will conduct a census of all 53 State Agencies that administer the Supplemental Nutrition Assistance Program (SNAP) to catalog and describe how States are currently using or planning to use computer matching strategies to reduce recipient fraud, payment errors, and administrative burden for both applicants and eligibility workers.

DATES: Written comments must be received on or before July 31, 2017.

ADDRESSES: Comments are invited on (1) whether the proposed collection of information is necessary for the proper performance of the functions of the agency, including whether the information shall have practical utility; (2) the accuracy of the agency's estimate of the burden of the proposed collection of information, including the validity of the methodology and assumptions used; (3) ways to enhance the quality, utility, and clarity of the information to be collected; and (4) ways to minimize the burden of the collection of information on those who are to respond, including use of appropriate automated, electronic, mechanical, or other technological collection techniques or other forms of information technology.

Comments may be sent to Danielle Deemer, Office of Policy Support, U.S. Department of Agriculture, Food and Nutrition Service, 3101 Park Center Drive, Room 10.1008, Alexandria, VA 22302. Comments may also be submitted via fax to the attention of Danielle Deemer at 703-305-2952 or via email to Danielle.Deemer@fns.usda.gov. Comments will also be accepted through the Federal eRulemaking Portal. Go to http://www.regulations.gov and follow the online instructions for submitting comments electronically.

All written comments will be open for public inspection at the office of the Food and Nutrition Service (FNS) during regular business hours (8:30 a.m. to 5:00 p.m. Monday through Friday) at 3101 Park Center Drive, Room 10.1008, Alexandria, VA 22302.

All responses to this notice will be summarized and included in the request for Office of Management and Budget (OMB) approval. All comments will be a matter of public record.

FOR FURTHER INFORMATION CONTACT: Requests for additional information or copies of the proposed information collection forms should be directed to Danielle Deemer at 703-305-2952.

SUPPLEMENTARY INFORMATION:

Title: Assessment of States' Use of Computer Matching Protocols in SNAP.

Form Number: Not applicable.

OMB Number: 0584—NEW.

Expiration Date: Not yet determined.

Type of Request: New information collection request.

Abstract: Almost all Federal and State programs use computer data matching to determine or verify eligibility for benefits. For SNAP, States also use computer data matching to ensure program integrity. In order to receive SNAP, households must meet financial and non-financial eligibility criteria and provide information and verification about their household circumstances. State Agencies administering SNAP use data matching to verify information submitted at the application and recertification stages of an application process and to monitor changes in benefit recipients' household circumstances. This information collection will build on existing knowledge 1 2 3 by conducting an assessment of computer matching capabilities and activities to describe the data matches, systems, purposes, and administrative costs in each State agency and the challenges facing States and counties in effective data matching.

¹ Borden, William S., and Robbi L. Ruben-Urm. (2002, January). “An Assessment of Computer Matching in the Food Stamp Program.” Final Report. Alexandria, VA: U.S. Department of Agriculture, Food and Nutrition Service.

² U.S. Government Accountability Office. (2014). “Supplemental Nutrition Assistance Program: Enhanced Detection Tools and Reporting Could Improve Efforts to Combat Recipient Fraud”, GAO-14-641, a report to Ranking Member, Committee on the Budget, U.S. Senate.

³ U.S. Government Accountability Office. (2016). “More Information on Promising Practices Could Enhance States' Use of Data Matching for Eligibility”, GAO-17-222, a report to the Chairman, Committee on Agriculture, House of Representatives.

The primary purpose of this study is to assess the computer matching strategies used by State Agencies and to prepare an updated nationwide data-matching inventory to inform effective practices for SNAP.

This project has four research objectives:

1. To inventory all data matches that State SNAP offices currently use and plan to use in the future.

2. To identify and describe all data systems used for matching by each SNAP State agency. Such systems include automated systems, web-based systems, and/or software that integrate data from multiple sources.

3. To identify and describe the purposes for which States pursue each data match.

4. To calculate the annual and per-usage costs incurred in carrying out data matches, in total and, when possible, for each individual match.

To address the study objectives, three types of data will be collected and analyzed: (1) Extant documentation on State data-matching procedures; (2) extant documentation on administrative costs of data matching; and (3) survey data on all 53 State agencies collected via the National Survey of State SNAP Data-Matching Methods. The study will result in both a report for public release and a database that catalogs data matches and can be updated on an ongoing basis.

Affected Public: State, Local and Tribal government: Respondent group types identified includes: (1) 53 administrative staff at the State level and (2) 350 administrative staff at the county level.

Estimated Number of Respondents: 403 State, Local or Tribal Respondents (53 State Agencies and 350 County/Local SNAP Staff members). The National Survey of State SNAP Data-Matching Methods will be a self-administered web survey that will include all 50 States, the District of Columbia, and two territories (U.S. Virgin Islands and Guam). We anticipate a 100 percent response rate to the State portion of the survey. There are 350 County/Local SNAP Staff members and we anticipate 50 percent response rate for their portion of the survey. The estimates are delineated in Table 1.

Of the 53 State agencies, 43 administer SNAP at the State level and 10 administer SNAP at the county level. Therefore, the survey will also collect data at the county level from the 10 States that have county-administered SNAP to account for variations in processes and procedures at the county level. Due to the many and varied systems States use to match data for initial and continuing program eligibility, participation, and integrity checks, we anticipate that any particular State with county-administered SNAP could have multiple county/local respondents who can best answer system, process, technical, and cost-related questions. We estimate that about half of the 10 States with county-administered SNAP will ask county administrators to complete the sections of the survey about county-level processes and procedures.

Estimated Number of Responses per Respondent: All administrative staff at the State level and administrative staff at the county level will be asked to participate in one survey—the National Survey of State SNAP Data-Matching Methods. The survey will be web-based and will be completed by the respondents in a secured web portal.

Estimated Number of Total Annual Responses: FNS anticipates 403 estimated total number of annual responses. We anticipate 228 responses and 175 non-responses.

Estimated Time per Response: The response times vary depending on the respondent type identified for county respondents. The time ranges from approximately 15 minutes (0.25), approximately 24 minutes (0.4008) and approximately 42 minutes (0.7014). The breakout is in Table 1.

There is a slight difference in the time required for State and county staff to complete the survey due to several additional items on the State survey. Time per response for State SNAP staff completing the state portion of the survey only varies from approximately 20 minutes (0.334), approximately 30 minutes (0.50) and approximately 45 minutes (0.75). Time per response for counties completing the county portion of the survey ranges from approximately 15 minutes (0.25), to approximately 24 minutes (0.40), to approximately 42 minutes (0.70). The length of time per response for state SNAP staff completing the survey for states and counties ranges from approximately 30 minutes (0.50), to approximately 60 minutes (1.00), to approximately 72 minutes (1.20).

Estimated Total Annual Burden on Respondents and Non-Respondents: The total estimated annual burden for respondents is approximately 135.55 burden hours (117.05 hours for respondents and 17.50 for non-respondents) which includes the amount of time to read an email, review a few questions, and decide to exit the survey.

BILLING CODE 3410-30-P

Dated: May 18, 2017.
Jessica Shahin,
Acting Administrator, Food and Nutrition Service.

[FR Doc. 2017-11029 Filed 5-26-17; 8:45 am]

BILLING CODE 3410-30-P